DEPARTMENT OF ENERGY

Federal Energy Regulatory Commission

Notice of Meeting

May 23, 2002.

The following notice is published pursuant to section 3(A) of the Government in the Sunshine Act (Pub. L. No. 94-409), 5 U.S.C 552B:

AGENCY HOLDING MEETING: Federal Energy Regulatory Commission.

DATE AND TIME: May 30, 2002, 10:00 a.m.

PLACE: Room 2C, 888 First Street, NE., Washington, DC 20426.

STATUS: Open.

MATTERS TO BE CONSIDERED: Agenda, * Note: items listed on the agenda may be deleted without further notice.

CONTACT PERSON FOR MORE INFORMATION: Magalie R. Salas, Secretary, Telephone (202) 208-0400, For a recording listing items stricken from or added to the meeting, call (202) 208-1627.

This is a list of matters to be considered by the commission. It does not include a listing of all papers relevant to the items on the Agenda; however, all public documents may be examined in the reference and information center.

793RD—Meeting May 30, 2002, Regular Meeting 10:00 a.m.

Administrative Agenda

A-1.

DOCKET# AD02-1, 000, Agency Administrative Matters

A-2.

DOCKET# AD02-7, 000, Customer Matters, Reliability, Security and Market Operations

A-3.

DOCKET# AD02-18, 000, Northeast RTO Developments

OTHER#S RT01-99, 000, Regional Transmission Organizations

RT01-86, 000, Bangor Hydro-Electric Company, Central Maine Power Company, National Grid USA, Northeast Utilities Service Company, United Illuminating Company and The Vermont Electric Power Company

RT01-95, 000, New York Independent System Operator Inc., Central Hudson Gas & Electric Corporation, Consolidated Edison Company of New York, Inc., Niagara Mohawk Power Corporation, Orange & Rockland Utilities, Inc. and Rochester Gas and Electric Corporation

Markets, Tariffs and Rates—Electric

E-1.

DOCKET# ER02-456, 000, Electric Generation LLC

E-2.

DOCKET# ER02-352, 002, Southern Company Services, Inc.

OTHER#S ER02-352, 000, Southern Company Services, Inc.

ER02-352, 001, Southern Company Services, Inc.

E-3.

DOCKET# ER02-1451, 000, Ameren Energy Marketing Company

E-4.

DOCKET# ER02-1472, 000, Entergy Gulf States, Inc.

E-5.

DOCKET# ER02-1450, 000, IRH Management Committee

E-6.

DOCKET# ER02-1326, 000, PJM Interconnection, L.L.C.

E-7.

DOCKET# ER02-1618, 000, New England Power Pool

E-8.

DOCKET# ER02-1494, 000, Commonwealth Edison Company

E-9.

DOCKET# ER01-948, 000, Exelon Generation Company, L.L.C.

E-10.

DOCKET# ER01-890, 003, Boston Edison Company

OTHER#S ER02-1465, 000, Boston Edison Company

E-11.

DOCKET# ER02-1478, 000, Duke Energy Oakland, LLC

OTHER#S ER02-10, 000, Duke Energy Oakland, LLC

ER02-240, 000, Duke Energy Oakland, LLC

ER02-240, 001, Duke Energy Oakland, LLC

E-12.

DOCKET# ER02-1420, 000, Midwest Independent Transmission System Operator, Inc.

E-13.

DOCKET# EL00-95, 022, San Diego Gas & Electric Company v. Sellers of Energy and Ancillary Services Into Markets Operated by the California Independent System Operator Corporation and the California Power Exchange

OTHER#S EL00-95, 023, San Diego Gas & Electric Company v. Sellers of Energy and Ancillary Services Into Markets Operated by the California Independent System Operator Corporation and the California Power Exchange

EL00-95, 024, San Diego Gas & Electric Company v.Sellers of Energy and Ancillary Services Into Markets Operated by the California Independent System Operator Corporation and the California Power Exchange

EL00-95, 025, San Diego Gas & Electric Company v.Sellers of Energy and Ancillary Services Into Markets Operated by the California Independent System Operator Corporation and the California Power Exchange

EL00-98 021 Investigation of Practices of the California Independent System Operator Corporation and the California Power Exchange

EL00-98, 022, Investigation of Practices of the California Independent System Operator Corporation and the California Power Exchange

EL00-98, 023, Investigation of Practices of the California Independent System Operator Corporation and the California Power Exchange

EL00-98, 024, Investigation of Practices of the California Independent System Operator Corporation and the California Power Exchange

E-14.

DOCKET# ER02-108, 003, Midwest Independent Transmission System Operator, Inc.

E-15.

OMITTED

E-16.

DOCKET# ER01-2214, 001, Entergy Services, Inc.

E-17.

DOCKET# EL00-62 042 ISO New England Inc.

E-18.

OMITTED

E-19.

OMITTED

E-20.

DOCKET# TX02-2, 000, Kiowa Power Partners, LLC

OTHER#S ER02-1654, 000, Oncor Electric Delivery Company

E-21.

DOCKET# ER02-488, 001, Midwest Independent Transmission System Operator, Inc.

E-22.

DOCKET# ER98-1438, 011, Midwest Independent Transmission System Operator, Inc.

OTHER#S EC98-24, 007 Cincinnati Gas & Electric Company, Commonwealth Edison Company, Commonwealth Edison Company of Indiana, Illinois Power Company, PSI Energy, Inc., Wisconsin Electric Power Company, Union Electric Company, Central Illinois Public Service Company, Louisville Gas & Electric Company and Kentucky Utilities Company

ER01-479, 003, Midwest Independent Transmission System Operator, Inc.

E-23.

DOCKET# EL02-2, 001, PPL EnergyPlus, LLC

E-24.

OMITTED

E-25.

DOCKET# ER02-651, 001, California Independent System Operator Corporation

E-26.

DOCKET# ER02-653, 001, PacifiCorp

E-27.

DOCKET# ER02-913, 001, American Electric Power Company

E-28.

DOCKET# ER99-2779, 001, Central Power and Light Company, West Texas Utilities Company, Public Service Company of Oklahoma and Southwestern Electric Power Company

E-29.

DOCKET# EL00-80, 001, Indeck Maine Energy, L.L.C. v. ISO New England, Inc.

E-30.

OMITTED

E-31.

DOCKET# ER02-112, 001, Mid-Continent Area Power Pool

E-32.

DOCKET# ER02-708, 001, Central Illinois Light Company

OTHER#S ER02-708, 002, Central Illinois Light Company

E-33.

DOCKET# ES02-25, 001, UtiliCorp United Inc.

E-34.

DOCKET# EL01-51, 000, Detroit Edison Company

OTHER#S EL01-51, 001, Detroit Edison Company

EL01-51, 002, Detroit Edison Company

ER01-1649, 000, Detroit Edison Company

ER01-1649, 001, Detroit Edison Company

ER01-1649, 002, Detroit Edison Company

E-35.

OMITTED

E-36.

DOCKET# EL02-25, 000, Intermountain Rural Electric Association v. Public Service Company of Colorado

OTHER#S EL02-76, 000, Holy Cross Energy and Yampa Valley Electric Association v. Public Service Company of Colorado

E-37.

DOCKET# EL02-74, 000, Colton Power L.P. and City of Colton, California v. Southern California Edison Company

E-38.

OMITTED

E-39.

OMITTED

E-40.

DOCKET# ER01-1136, 000, Ameren Services Company

OTHER#S ER01-1136, 001, Ameren Services Company

ER01-1136, 002, Ameren Services Company

ER01-1136, 003, Ameren Services Company

ER01-1136, 004, Ameren Services Company

E-41.

DOCKET# EL02-59, 000, KeySpan-Ravenswood, Inc. v. New York Independent System Operator, Inc.

E-42.

DOCKET# EL02-69, 000, UtiliCorp United Inc.

E-43.

DOCKET# EL02-71, 000, State of California, ex rel. Bill Lockyer, Attorney General of the State of California v. British Columbia Power Exchange Corporation, Coral Power, LLC, Dynegy Power Marketing, Inc., Enron Power Marketing, Inc., Mirant Americas Energy Marketing, LP, Reliant Energy Services, Inc., Williams Energy Marketing & Trading Company, All Other Public Utility Sellers of Energy and Ancillary Services to the California Energy Resources Scheduling Division of the California Department of Water Resources and All Other Public Utility Sellers of Energy and Ancillary Services into Markets Operated by the California Power Exchange and the California Independent System Operator Corporation

E-44.

DOCKET# ER01-3155, 002, New York Independent System Operator, Inc.

OTHER#S EL01-45, 002, Consolidated Edison Company of New York, Inc.

EL01-45, 003, Consolidated Edison Company of New York, Inc.

EL01-45, 005, Consolidated Edison Company of New York, Inc.

EL01-45, 009, Consolidated Edison Company of New York, Inc.

EL01-45, 010, Consolidated Edison Company of New York, Inc.

ER01-1385, 003, Consolidated Edison Company of New York, Inc.

ER01-1385, 004, Consolidated Edison Company of New York, Inc.

ER01-1385, 006, Consolidated Edison Company of New York, Inc.

ER01-1385, 010, Consolidated Edison Company of New York, Inc.

ER01-1385, 011, Consolidated Edison Company of New York, Inc.

E-45.

DOCKET# EL00-35, 000, Platte-Clay Electric Cooperative Inc.

E-46.

DOCKET# EL98-66, 000, East Texas Electric Cooperative, Inc. v. Central and South West Services, Inc., Central Power and Light Company, West Texas Utilities Company, Public Service Company of Oklahoma and Southwestern Electric Power Company

E-47.

DOCKET# EL02-86, 000, Exelon Generation Company, L.L.C. v. Southwest Power Pool, Inc.

Miscellaneous Agenda

M-1.

RESERVED

Markets, Tariffs and Rates—Gas

G-1.

DOCKET# RP02-332, 000, Petal Gas Storage, L.L.C.

G-2.

DOCKET# RP02-329, 000, Stingray Pipeline Company, L.L.C.

G-3.

DOCKET# RP99-518, 027, PG&E Gas Transmission, Northwest Corporation

G-4.

DOCKET# RP00-337, 000. Kern River Gas Transmission Company

OTHER#S RP00-337, 001, Kern River Gas Transmission Company

RP00-337, 002, Kern River Gas Transmission Company

RP01-93, 000, Kern River Gas Transmission Company

RP01-93, 001, Kern River Gas Transmission Company

RP01-93, 002, Kern River Gas Transmission Company

G-5.

DOCKET# RP02-232, 000, Great Lakes Gas Transmission Limited Partnership

G-6.

DOCKET# RP02-248, 000, Kern River Gas Transmission Company

G-7.

DOCKET# RP96-312, 070, Tennessee Gas Pipeline Company

G-8.

OMITTED

G-9.

DOCKET# RP02-335, 000, ANR Pipeline Company

G-10.

DOCKET# RP02-334, 000. Northern Natural Gas Company

G-11.

DOCKET# RP02-238, 000. Natural Gas Pipeline Company of America

G-12.

DOCKET# IS02-216, 000, Express Pipeline LLC

G-13.

DOCKET# RP00-410, 000, Mississippi River Transmission Corporation

OTHER#S RP00-410, 001, Mississippi River Transmission Corporation

RP01-8, 000, Mississippi River Transmission Corporation

RP01-8, 001, Mississippi River Transmission Corporation

G-14.

DOCKET# RP02-318, 000, Questar Southern Trails Pipeline Company

OTHER#S RP02-318, 001, Questar Southern Trails Pipeline Company

G-15.

DOCKET# RP00-322, 000, Garden Banks Gas Pipeline, L.L.C.

OTHER#S RP00-577, 000, Garden Banks Gas Pipeline, L.L.C.

G-16.

DOCKET# RP00-338, 000, Mojave Pipeline Company

OTHER#S RP00-621, 000, Mojave Pipeline Company

G-17.

DOCKET# RP00-465, 000, Trunkline LNG Company

OTHER#S RP00-616, 000, Trunkline LNG Company

G-18.

DOCKET# RP00-480, 000, Alliance Pipeline L.P.

OTHER#S RP00-445, 000, Alliance Pipeline L.P.

RP01-9, 000, Alliance Pipeline L.P.

G-19.

DOCKET# RP00-336, 002, El Paso Natural Gas Company

OTHER#S RP00-139, 000, KN Marketing, L.P. v. El Paso Natural Gas Company

RP01-484, 000, Aera Energy, LLC, Amoco Production Company, BP Energy Company, Burlington Resources Oil & Gas Company LP, Conoco Inc., Coral Energy Resources LP, ONEOK Energy Marketing & Trading Company, L.P., Pacific Gas and Electric Company, Panda Gila River L.P., the Public Utilities Commission of the State of California, Southern California Edison Company, Southern California Gas Company and Texaco Natural Gas Inc. v. El Paso Natural Gas Company

RP01-486, 000 Texas, New Mexico and Arizona Shippers: Apache Nitrogen Products, Inc., Arizona Electric Power Cooperative, Inc., Arizona Gas Division of Citizens Communications Company, BHP Copper, Inc., El Paso Electric Company, El Paso Municipal Customer Group, Phelps Dodge Corporation, Public Service Company of New Mexico, Salt River Project and Southern Union Gas Company v. El Paso Natural Gas Company

G-20.

DOCKET# RP99-301, 041, ANR Pipeline Company

G-21.

OMITTED

G-22.

DOCKET# RP96-312, 029, Tennessee Gas Pipeline Company

G-23.

DOCKET# RP02-151, 002, Gulf South Pipeline Company, L.P.

OTHER#S RP96-320, 054, Gulf South Pipeline Company, L.P.

RP02-151, 001, Gulf South Pipeline Company, L.P.

G-24.

OMITTED

G-25.

DOCKET# RM98-10, 011, Regulation of Short-Term Natural Gas Transportation Services, and Regulation of Interstate Natural Gas Transportation Services

G-26.

DOCKET# RP02-330, 000, ANR Pipeline Company

G-27.

DOCKET# PR02-3, 000, Bay Gas Storage Company, Ltd.

OTHER#S PR02-3, 001, Bay Gas Storage Company, Ltd.

G-28.

DOCKET# RP02-333, 000, Northern Natural Gas Company

Energy Projects—Hydro

H-1.

DOCKET# UL97-11, 004, PacifiCorp

H-2.

DOCKET# DI97-8, 003, Domtar Maine Corporation

OTHER#S P-2618, 015, Domtar Maine Corporation

P-2660, 016, Domtar Maine Corporation

DI97-9, 003, Domtar Maine Corporation

H-3.

DOCKET# P-6032, 044, Niagara Mohawk Power Corporation and Fourth Branch Associates

H-4.

OMITTED

H-5.

DOCKET# P-2232, 411, Duke Energy Corporation

Energy Projects—Certificates

C-1.

DOCKET# CP02-76, 000, Eastern Shore Natural Gas Company

C-2.

DOCKET# CP01-4, 001, Maritimes & Northeast Pipeline, L.L.C.

OTHER#S CP01-5, 002, Algonquin Gas Transmission Company

C-3.

DOCKET# CP02-20, 000, Iroquois Gas Transmission System, L.P.

C-4.

DOCKET# CP02-6, 001, Colorado Interstate Gas Company

OTHER#S CP02-6, 000, Colorado Interstate Gas Company

C-5.

DOCKET# CP01-66, 001, Egan Hub Partners, L.P.

C-6.

DOCKET# CP02-188, 000, Copper Eagle Gas Storage, L.L.C.

C-7.

DOCKET# CP02-80, 000, Reliant Energy Gas Transmission Company

C-8.

DOCKET# CP02-74, 000, Reef International, L.L.C.

C-9.

DOCKET# CP02-81, 000, Natural Gas Pipeline Company of America

C-10.

DOCKET# CP01-260, 001, Columbia Gas Transmission Corporation

Magalie R. Salas,
Secretary.

[FR Doc. 02-13474 Filed 5-28-02; 8:45 am]

BILLING CODE 6717-01-P